DEPARTMENT OF DEFENSE

Office of the Secretary of Defense

Renewal of Federal Advisory Committee

AGENCY: DoD.

ACTION: Renewal of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that it is renewing the charter for the Transformation Advisory Group.

The Transformation Advisory Group, pursuant to 41 CFR 102-3.50(d), is a discretionary Federal advisory committee established to provide the Secretary of Defense, through the Chairman of the Joint Chiefs of Staff and the Commander, U.S. Joint Forces Command independent advice and recommendations on strategic, scientific, technical, intelligence and policy-related issues to the Nation's joint enterprise, and the U.S. Joint Forces Command. In accordance with DoD policy and procedures, the Commander U.S. Joint Forces Command is authorized to act upon the advice emanating from this advisory committee.

The Transformation Advisory Group will be composed of more than 24 members drawn from a cross-section of experts in their fields. The areas of expertise include, but are not limited to, innovation, development, strategic communications, logistics, technologies, business practices, military, government, education, training, intelligence and appropriations.

Committee members appointed by the Secretary of Defense, who are not full-time Federal officers or employees, shall serve as Special Government Employees under the authority of 5 U.S.C. 3109. Committee members shall be appointed on an annual basis by the Secretary of Defense, and with the exception of travel and per diem for official travel, shall serve without compensation. The Commander, U.S. Joint Forces Command shall select the committee's chairperson from the committee's membership at large.

The Transformation Advisory Group shall meet at the call of the committee's Designated Federal Officer, in consultation with the Chairperson and the Commander U.S. Joint Forces Command. The Designated Federal Officer shall be a full-time or permanent part-time DoD employee, and shall be appointed in accordance with established DoD policies and procedures. The Designated Federal Officer or duly appointed Alternate Designated Federal Officer shall attend all committee meetings and subcommittee meetings.

The Transformation Advisory Group shall be authorized to establish subcommittees, as necessary and consistent with its mission, and these subcommittees or working groups shall operate under the provisions of the Federal Advisory Committee Act of 1972 (5 U.S.C., Appendix, as amended), the Sunshine in the Government Act of 1976 (5 U.S.C. 552b, as amended), and other appropriate Federal regulations.

Such subcommittees or workgroups shall not work independently of the chartered committee, and shall report all their recommendations and advice to the Transformation Advisory Group for full deliberation and discussion. Subcommittees or workgroups have no authority to make decisions on behalf of the chartered committee nor can they report directly to the Department of Defense or any Federal officers or employees who are not members of the Transformation Advisory Group.

Pursuant to 41 CFR 102-3.105(j) and 102-3.140, the public or interested organizations may submit written statements to the Transformation Advisory Group membership about the committee's mission and functions. Written statements may be submitted at any time or in response to the stated agenda of planned meeting of the Transformation Advisory Group.

All written statements shall be submitted to the Designated Federal Officer for the Transformation Advisory Group, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Transformation Advisory Group. The Designated Federal Officer, at that time, may provide additional guidance on the submission of written statements that are in response to the stated agenda for the planned meeting in question.

FOR FURTHER INFORMATION: Contact Frank Wilson, DoD Committee Management Officer, 703-601-2554.

Dated: May 16, 2007.
C.R. Choate,
Alternate OSD Federal Register Liaison Officer, Department of Defense.

[FR Doc. 07-2560 Filed 5-22-07; 8:45 am]

BILLING CODE 5001-06-P